DEPARTMENT OF HEALTH AND HUMAN SERVICES

Administration for Children and Families

Submission for OMB Review; Comment Request

Title: Federal Child Support Services Portal Registration.

OMB No.: 0970-0370.

The purpose of the Federal Child Support Services Portal Registration is to collect information from an authorized individual registering to use the Federal Parent Locator Service (FPLS) Child Support Services Portal. This information collection is necessary to authenticate the individual's identity and comply with the statutory requirement that federal Office of Child Support Enforcement (OCSE) establish and implement safeguards to restrict access to confidential information in the FPLS to authorized persons. 42 U.S.C. 653(m)(2).

After identity is authenticated, secure accounts will be created for authorized users to view data for their respective applications.

Respondents: Employers, Financial Institutions, Insurers, State Agencies, Local Access and Visitation Providers.

Annual Burden Estimates
Instrument | Number of respondents | Number of responses per respondent | Average burden hours per response | Total burden hours
Registration Screen | 588 | 1 | 0.1 | 58.8

Estimated Total Annual Burden Hours: 58.8

Additional Information: Copies of the proposed collection may be obtained by writing to The Administration for Children and Families, Office of Information Services, 370 L'Enfant Promenade SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street NW., Washington, DC 20503, Attn: Desk Officer for ACF.

Bob Sargis,
Reports Clearance, Officer.

[FR Doc. 2012-20164 Filed 8-16-12; 8:45 am]

BILLING CODE 4184-01-P